COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add products and services to the Procurement List that will be furnished by nonprofit agencies employing persons who are blind or have other severe disabilities.

Comments Must be Received on or Before: 6/20/2011.

ADDRESSES: Committee for Purchase From People Who Are Blind or Severely Disabled, Jefferson Plaza 2, Suite 10800, 1421 Jefferson Davis Highway, Arlington, Virginia 22202-3259.

For Further Information or to Submit Comments Contact: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List.

Comments on this certification are invited. Commenters should identify the statement(s) underlying the certification on which they are providing additional information.

End of Certification

The following products and services are proposed for addition to Procurement List for production by the nonprofit agencies listed:

Products

NSN: 5120-00-NIB-0001 Engineer's Hammer, 2 lb.

NSN: 5120-00-NIB-0002 Engineer's Hammer, 3 lb.

NSN: 5120-00-NIB-0003 Engineer's Hammer, 4 lb.

NSN: 5120-00-NIB-0004 Drilling Hammer, 3 lb.

NSN: 5120-00-NIB-0005 Drilling Hammer, 4 lb.

NSN: 5120-00-NIB-0006 Single Bit Axe, Michigan, 3.5 lb

NSN: 5120-00-NIB-0007 Double Bit Axe, Michigan, 3.5 lb.

NSN: 5120-00-NIB-0008 Sledge Hammer, 16 lb.

NSN: 5120-00-NIB-0010 Sledge Hammer, 20 lb.

NSN: 5120-00-NIB-0011 Splitting Maul, 6 lb.

NSN: 5120-00-NIB-0012 Splitting Maul, 8 lb.

Contracting Activity: General Services Administration, FSS Tools Acquisition Division II, Kansas City, MO

NPA: Keystone Vocational Services, Inc., Sharon, PA

Coverage: B-List for the Broad Government requirement as aggregated by the General Services Administration.

Services

Service Type/Location: Total Facility Maintenance, FCC—Equipment Developmental Group, 3600 Hiram-Lithia Springs Road, SW., Hiram, GA.

NPA: Bobby Dodd Institute, Inc., Atlanta, GA.

Contracting Activity: Federal Communications Commission, Washington, DC

Service Type/Location: Laundry Services, U.S. Naval Hospital & Naval Dental Clinic Base, Farenholt Road, Agana Heights, GU.

NPA: ICAN Resources, Inc., Dededo, GU.

Contracting Activity: Dept of the Navy, FISC Pearl Harbor, HI.

Service Type/Location: Janitorial Services, Muskogee Armed Force Reserve Center, 6800 S. Cherokee St., Muskogee, OK.

NPA: Golden Rule Industries of Muskogee, Inc., Muskogee, OK.

Contracting Activity: Dept of the Army, W7NV USPFO ACTIVITY OK ARNG, Oklahoma, OK.

Service Type/Location: Custodial and Maintenance Services, NOAA-Atlantic Oceanographic & Meteorological Laboratory (AOML), 4301 Rickenbacker Causeway, Miami, FL.

NPA: Goodwill Industries of South Florida, Inc., Miami, FL.

Contracting Activity: Dept of Commerce, National Oceanic and Atmospheric Administration, Kansas City, MO.

Barry S. Lineback,
Director, Business Operations.

[FR Doc. 2011-12415 Filed 5-19-11; 8:45 am]

BILLING CODE 6353-01-P